DEPARTMENT OF HOMELAND SECURITY

U.S. Citizenship and Immigration Services

Agency Information Collection Activities: Reinstatement and Revision of a Previously Approved Form

ACTION: 60-day notice of information collection under review; Form I-485: Supplement C, HRIFA Supplement to Form I-485; OMB Control No. 1615-New.

The Department of Homeland Security, U.S. Citizenship and Immigration Services has submitted the following information collection request for review and clearance in accordance with the Paperwork Reduction Act of 1995. The information collection is published to obtain comments from the public and affected agencies. Comments are encouraged and will be accepted for sixty days until November 26, 2007.

Written comments and suggestions regarding items contained in this notice and especially with regard to the estimated public burden and associated response time should be directed to the Department of Homeland Security (DHS), USCIS, Chief, Regulatory Management Division, Clearance Office, 111 Massachusetts Avenue, NW., 3rd floor, Suite 3008, Washington, DC 20529. Comments may also be submitted to DHS via facsimile to 202-272-8352, or via e-mail at rfs.regs@dhs.gov. When submitting comments by e-mail please add the OMB Control Number 1615-New in the subject box.

Written comments and suggestions from the public and affected agencies concerning the collection of information should address one or more of the following four points:

(1) Evaluate whether the collection of information is necessary for the proper performance of the functions of the agency, including whether the information will have practical utility;

(2) Evaluate the accuracy of the agencies estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Reinstatement and revision of a previously approved form.

(2) Title of the Form/Collection: HRIFA Supplement to Form I-485.

(3) Agency form number, if any, and the applicable component of the Department of Homeland Security sponsoring the collection: Form I-485 Supplement C; U.S. Citizenship and Immigration Services.

(4) Affected public who will be asked or required to respond, as well as a brief abstract: Primary: Individuals or households. The information provided on the Form I-485 Supplement C, in combination with the information collected on Form I-485 (Application to Register Permanent Resident or Adjust Status), is necessary in order for the U.S. Citizenship and Immigration Services (USCIS) to make a determination that the adjustment of status eligibility requirements and conditions are met by the applicant of Haitian nationality pursuant to HRIFA.

(5) An estimate of the total number of respondents and the amount of time estimated for an average respondent to respond: 2,000 respondents at 30 minutes per response.

(6) An estimate of the total public burden (in hours) associated with the collection: 1,000 annual burden hours.

If you have additional comments, suggestions, or need a copy of the information collection instrument, please visit the USCIS Web site at: http://www.regulations.gov/fdmspublic/component/main. We may also be contacted at: USCIS, Regulatory Management Division, 111 Massachusetts Avenue, NW., 3rd floor, Suite 3008, Washington, DC 20529, telephone number 202-272-8377.

Dated: September 20, 2007.
Richard A. Sloan,
Chief, Regulatory Management Division, U.S. Citizenship and Immigration Services.

[FR Doc. E7-18943 Filed 9-25-07; 8:45 am]

BILLING CODE 4410-10-P